DEPARTMENT OF THE INTERIOR

Bureau of Land Management

[AZ-010-03-1430-ES; AZA-31954]

Notice of Realty Action; Recreation and Public Purposes Classification; Arizona

AGENCY: Bureau of Land Management, Interior.

ACTION: Notice of realty action.

SUMMARY: The public land listed below, located in Coconino County, Arizona, near the community of Fredonia has been examined and found suitable for classification for lease or conveyance to the town of Fredonia under the provisions of the Recreation and Public Purposes Act.

FOR FURTHER INFORMATION CONTACT: You may contact Linda Barwick, on (435) 688-3287.

SUPPLEMENTARY INFORMATION: The following public land, located in Coconino County, Arizona, near the community of Fredonia has been examined and found suitable for classification for lease or conveyance to the town of Fredonia under the provisions of the Recreation and Public Purposes Act, as amended (43 U.S.C. 869 et. seq.):

Gila and Salt River Meridian, Arizona

T. 41 N., R. 2 W.,

Sec. 22, W½NW¼NE¼NE¼; NW¼S W¼SW¼NE¼NE¼; N½NW¼NE¼; N½ S½NW¼NE¼; N½ NE¼NW¼; N½S½ NE¼NW¼.

Containing 65.625 acres, more or less.

The town of Fredonia proposes to use the land to construct, operate and maintain a shooting range. Leasing or conveying title to the affected public land is consistent with current BLM land use planning and would be in the public interest.

The lease or patent, when issued, would be subject to the following terms, conditions, and reservations:

1. Provisions of the Recreation and Public Purposes Act and all applicable regulations of the Secretary of the Interior.

2. A right-of-way for ditches and canals constructed by the authority of the United States.

3. All minerals shall be reserved to the United States.

4. Any other valid and existing rights of record not yet identified.

The land will be segregated from all other forms of appropriation under the public land laws, including the general mining laws and leasing under the mineral leasing laws, except for leasing or conveyance under the Recreation and Public Purposes Act on March 8, 2004. For a period until April 22, 2004, interested persons may submit comments regarding the proposed classification, leasing or conveyance of the land to the Field Manager, Arizona Strip Field Office Bureau of Land Management, Arizona Strip Field Office, 345 E. Riverside Drive, St. George, UT 84790.

Classification Comments: Interested parties may submit comments involving the suitability of the land for a shooting range facility. Comments on the classification are restricted to whether the land is physically suited for the proposal, whether the use will maximize the future use or uses of the land, whether the use is consistent with local planning and zoning, or if the use is consistent with State and Federal programs.

Application Comments: Interested parties may submit comments regarding the specific use proposed in the application, whether the BLM followed proper administrative procedures in reaching the decision, or any other factor not directly related to the suitability of the land for a shooting range.

Any adverse comments will be reviewed by the State Director. In the absence of any adverse comments, the classification will become effective May 7, 2004.

SUPPLEMENTARY INFORMATION: A plan of development for the shooting range is on file in the Arizona Strip Field Office.

Roger G. Taylor,
Field Manager.

[FR Doc. 04-5089 Filed 3-5-04; 8:45 am]

BILLING CODE 4310-32-P